DEPARTMENT OF DEFENSE

Office of the Secretary

Meeting of a Federal Advisory Committee

AGENCY: Department of Defense.

ACTION: Notice of meeting.

SUMMARY: Under the provisions of the Federal Advisory Committee Act of 1972 (5 U.S.C., Appendix, as amended), the Government in the Sunshine Act of 1976 (5 U.S.C. 552b, as amended), and 41 CFR 102-3.150, the Department of Defense announces the following Federal advisory committee meeting of the Defense Business Board (DBB) (hereafter referred to as “the Board”).

DATES: The public meeting of the Defense Business Board will be held on Thursday, April 21, 2011. The meeting will begin at 12:45 p.m. and end at 3 p.m.

ADDRESSES: Room 3E863 in the Pentagon, Washington, DC (escort required; See guidance in section below, “Public's Accessibility to the Meeting.”)

FOR FURTHER INFORMATION CONTACT: Ms. Debora Duffy, Defense Business Board, 1155 Defense Pentagon, Room 5B1088A, Washington, DC 20301-1155, Debora.Duffy@osd.mil, (703) 697-2168.

SUPPLEMENTARY INFORMATION: Purpose of the Meeting: At this meeting, the Board will deliberate draft findings and recommendations from the “Assessing Global Logistics Management,” “Energy Acquisition,” “Military Mail” and “Skill Sets for Program Managers” Task Groups. The Board will also receive an update from the “Military Retirement” Task Group. The mission of the Board is to advise the Secretary of Defense on effective strategies for implementation of best business practices of interest to the Department of Defense.

Agenda:

Public Session

12:45-2:45 Deliberation of Task Group Recommendations

—Assessing Global Logistics Management

—Energy Acquisition

—Military Mail

—Skill Sets for Program Managers

2:45-3:00 Task Group Updates

—Military Retirement

End of public session.

Availability of Materials for the Meeting: A copy of the agenda for the April 21, 2011 meeting and the terms of reference for the Task Groups may be obtained at the meeting or from the Board's Web site at http://dbb.defense.gov/meetings.html under “Upcoming Meetings: April 21, 2011.”

Public's Accessibility to the Meeting: Pursuant to 5 U.S.C. 552b and 41 CFR 102-3.140 through 102-3.165, and the availability of space, part of this meeting is open to the public. Seating is limited and is on a first-come basis. All members of the public who wish to attend the public session of the meeting must contact Ms. Debora Duffy at the number listed in this notice no later than noon on Wednesday, April 13th to register and make arrangements for a Pentagon escort, if necessary. Public attendees requiring escort should arrive at the Pentagon Metro Entrance in time to complete security screening by no later than 12:15 p.m. To complete security screening, please come prepared to present two forms of identification and one must be a pictured identification card.

Special Accommodations: Individuals requiring special accommodations to access the public meeting should contact Ms. Duffy at least five (5) business days prior to the meeting so that appropriate arrangements can be made.

Administrative Work Session: Prior to the Public Session, the DBB will conduct an Administrative Work Session starting at 8:30 a.m. and ending at 9 a.m. to address administrative matters. The DBB will conduct a Preparatory Work Session starting at 9 a.m. and ending at 12:30 p.m. to prepare for the next meeting of the DBB. Pursuant to 41 CFR 102-3.160, the public may not attend the Administrative and Preparatory Work Sessions.

Committee's Designated Federal Officer: The Board's Designated Federal Officer is Captain Michael B. Bohn, USN, Defense Business Board, 1155 Defense Pentagon, Room 5B1088A, Washington, DC 20301-1155, michael.bohn@osd.mil, (703) 697-2346. For meeting information please contact Ms. Debora Duffy, Defense Business Board, 1155 Defense Pentagon, Room 5B1088A, Washington, DC 20301-1155, Debora.Duffy@osd.mil, (703) 697-2168.

Procedures for Providing Public Comments: Pursuant to 41 CFR 102-3.105(j) and 102-3.140, and section 10(a)(3) of the Federal Advisory Committee Act of 1972, the public or interested organizations may submit written comments to the Board about its mission and topics pertaining to this public session.

Written comments should be received by the DFO at least five (5) business days prior to the meeting date so that the comments may be made available to the Board for their consideration prior to the meeting. Written comments should be submitted via e-mail to the address for the DFO given in this notice in either Adobe Acrobat or Microsoft Word format. Please note that since the Board operates under the provisions of the Federal Advisory Committee Act, as amended, all public presentations will be treated as public documents and will be made available for public inspection, including, but not limited to, being posted on the Board's Web site.

Dated: March 29, 2011.
Morgan F. Park,
Alternate OSD Federal Register Liaison Officer, Department of Defense.

[FR Doc. 2011-7700 Filed 3-31-11; 8:45 am]

BILLING CODE 5001-06-P